DEPARTMENT OF LABOR

Occupational Safety and Health Administration

[Docket No. ICR-1218-226(2002)]

Manlifts Standard; Extension of the Office of Management and Budget's Approval of Information-Collection (Paperwork) Requirements

AGENCY: Occupational Safety and Health Administration (OSHA), Labor.

ACTION: Request for comment.

SUMMARY: OSHA requests comment concerning its proposed extension of the information-collection requirements specified by its Manlifts Standard (29 CFR 1910.68). The paperwork provisions of the Manlifts Standard specify requirements for developing, maintaining, and disclosing inspection records. The purpose of these requirements is to reduce employees' risk of death or serious injury by ensuring that manlifts are inspected on a regular basis to ensure they are in safe operating condition.

DATES: Submit written comments on or before May 6, 2002.

ADDRESSES: Submit written comments to the Docket Office, Docket No. ICR-1218-0226(2002), OSHA, U.S. Department of Labor, Room N-2625, 200 Constitution Avenue, NW., Washington, DC 20210; telephone (202) 693-2350. Commenters may transmit written comments of 10 pages or less by facsimile to (202) 693-1648.

FOR FURTHER INFORMATION CONTACT: Theda Kenney, Directorate of Safety Standards Programs, OSHA, U.S. Department of Labor, Room N-3609, 200 Constitution Avenue, NW., Washington, DC 20210; telephone (202) 693-2222. A copy of the Agency's Information-Collection Request (ICR) supporting the need for the information collection specified by the Manlifts Standard is available for inspection and copying in the Docket Office, or by requesting a copy from Theda Kenney at (202) 693-2222, or Todd Owen at (202) 693-2444. For electronic copies of the ICR, contact OSHA on the Internet at http://www.osha,gov, and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and cots) is minimal, collection instruments are understandable, and OSHA's estimate of the information-collection burden is correct.

The Manlifts Standard (i.e., “the Standard”) specifies one paperwork requirement. Paragraph (e) of 1910.68 requires employers to have a competent designated person inspect each manlift at least once every 30 days. The manlift inspection is to cover at least the following items: Steps; step fastenings; rails; rail supports and fastenings; rollers and slides; belt and belt tension; handholds and fastenings; floor landings; guardrails; lubrication; limit switches; warning signs and lights; illumination; drive pulley; bottom (boot) pulley and clearance; pulley supports; motor; driving mechanism; brake; electrical switches; vibration and misalignment; and any “skip” on the up or down run when mounting a step (indicating worn gears). After an inspection, the employer must prepare a certification record that contains the date of the inspection, the signature of the person who performed the inspection, and the serial number or other identifier of the inspected manlift. Employers are to maintain the certification records and make them available to OSHA compliance officers. This paperwork requirement provides assurance to employers, employees, and compliance officers that manlifts have been inspected on a regular basis and that they are in safe operating condition, thereby preventing manlift failure. These records also provide the most efficient means for the compliance officers to determine that an employer is complying with the Standard.

II. Special Issues for Comment

OSHA has a particular interest in comments on the following issues:

• Whether the proposed information-collection requirements are necessary for the proper performance of the Agency's function, including whether the information is useful;

• The accuracy of OSHA's estimate of the burden (time and costs) of the information-collection requirements, including the validity of the methodology and assumptions used;

• The quality, utility, and clarity of the information collected; and

• Ways to minimize the burden on employers who must comply; for example, by using automated or other technological information-collection and -transmission techniques.

III. Proposed Actions

OSHA proposes to extend the Office of Management and Budget's (OMB) approval of the collection-of-information requirements by the Manlifts Standard (29 CFR 1910.68). The Agency will summarize the comments submitted in response to this notice, and will include this summary in its request to OMB to extend the approval of these information-collection requirements.

Type of Review: Extension of a currently-approved information-collection requirement.

Title: Manlifts Standard (29 CFR 1910.68).

OMB Number: 1218-0226.

Affected Public: Business or other for-profit; not-for-profit institutions; Federal government; State, local, or tribal government.

Number of Respondents: 3,000.

Frequency of Recordkeeping: Monthly.

Average Time per Reponse: 1.15 hours.

Total Annual Hours Requested: 41.400.

Total Annual Costs (O&M): $0.

IV. Authority and Signature

John L. Henshaw, Assistant Secretary of Labor for Occupational Safety and Health, directed the preparation of this notice. The authority for this Notice is the Paperwork Reduction Act of 1995 (44 U.S.C. 3506), and Secretary of Labor's Order No. 3-2000 (65 FR 50017).

Signed at Washington, DC on April 2, 2002.
John L. Henshaw,
Assistant Secretary of Labor.

[FR Doc. 02-8262 Filed 4-4-02; 8:45 am]

BILLING CODE 4510-26-M